DEPARTMENT OF TRANSPORTATION

Federal Aviation Administration

Notice of Release From Federal Grant Assurance Obligations at Bob Hope Airport, Burbank, Los Angeles County, California

AGENCY: Federal Aviation Administration, DOT.

ACTION: Notice of request to release airport land.

SUMMARY: The Federal Aviation Administration (FAA) proposes to rule and invites public comment on the application for a release of approximately 1.5 acres of airport property at Bob Hope Airport, Burbank, Los Angeles County, California, from all conditions contained in the Grant Assurances since the parcel of land is not needed for airport purposes. The property will be sold for its fair market value and the proceeds used for airport purposes. The redevelopment of the land for commercial purposes represents a compatible land use that will not interfere with the airport or its operation, thereby protecting the interests of civil aviation.

DATES: Comments must be received on or before October 13, 2016.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. John T. Hatanaka, Senior Deputy Executive Director, Burbank-Glendale-Pasadena Airport Authority, 2627 Hollywood Way, Burbank, CA 91505.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

Burbank-Glendale-Pasadena Airport Authority requested a release from the conditions contained in the Grant Assurance obligations for approximately 1.5 acres of airport land at Bob Hope Airport. The property served as a parking lot and is located outside the airport boundary on the northwest side of the airport, east of Kenwood Street, and southwest of San Fernando Boulevard. The Airport Authority requested approval to sell the small parcel because the land is not needed for airport purposes presently or in the future. The sale price will be based on its appraised market value and the sale proceeds will be used for airport purposes. The property will be developed for commercial purposes, along with privately owned property to the south, that will represent a compatible use that will not interfere with airport operations. The interests of civil aviation will be appropriately served by the release.

Issued in Hawthorne, California on September 1, 2016.
Brian Armstrong,
Manager, Safety and Standards, Airports Division, Western-Pacific Region.

[FR Doc. 2016-21939 Filed 9-12-16; 8:45 am]

BILLING CODE 4910-13-P